DEPARTMENT OF HEALTH AND HUMAN SERVICES

Administration for Children and Families

Submission for OMB Review; Early Head Start-Child Care Partnerships Sustainability Study (OMB #0970-0471)

AGENCY: Office of Planning, Research, and Evaluation, Administration for Children and Families, HHS.

ACTION: Request for public comment.

SUMMARY: The Administration for Children and Families (ACF) at the U.S. Department of Health and Human Services (HHS) seeks approval to collect information for the Early Head Start-Child Care Partnerships Sustainability Study.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: This information collection is to provide nationally descriptive, longitudinal data on partnerships between Early Head Start programs and child care providers to inform program planning, technical assistance, and research. The proposed data collection is a follow-up study of the 2015 (National Descriptive Study (NDS) of Early Head Start-Child Care Partnerships (OMB 0970-0471) that obtained information about the EHS programs, community-based child care centers, and family child care providers participating in the federal grants supporting the implementation of Early Head Start-child care partnerships (EHS-CCPs). The current information collection request will follow up with EHS programs and child care providers who participated in the NDS to understand whether and how partnerships have been sustained or have dissolved, and which features of partnerships support or impede sustainability. Data collection activities will include surveys of directors of 2015 EHS-CCP grantees and of child care provider directors/managers who were selected for participation in the NDS, as well as semi-structured interviews with a purposive sample of providers whose partnerships have dissolved and have been sustained since 2016.

Respondents: Early Head Start program directors and child care providers.

Annual Burden Estimates
Instrument | Number of respondents (total over request period) | Number of responses per respondent (total over request period) | Average burden per response (in hours) | Total burden (in hours) | Annual burden (in hours)
EHS Program Director Survey | 335 | 1 | .58 | 194 | 65
Provider Survey (Sustained Partnership Provider Survey and Dissolved Partnership Provider Survey) | 470 | 1 | .50 | 235 | 78
Dissolved Partnership Provider Semi-structured Interview Protocol | 48 | 1 | .83 | 40 | 13
Sustained Partnership Provider Semi-structured Interview Protocol | 24 | 1 | .83 | 20 | 6

Estimated Total Annual Burden Hours: 162.

Authority: Sec 645A and 649 of the Improving Head Start for School Readiness Act of 2007 and the Consolidated Appropriations Act of 2019.

Mary B. Jones,
ACF/OPRE Certifying Officer.

[FR Doc. 2021-15568 Filed 7-21-21; 8:45 am]

BILLING CODE 4184-22-P